INTERNATIONAL TRADE COMMISSION

[Investigation No. 337-TA-978]

Certain Chassis Parts Incorporating Movable Sockets and Components Thereof; Commission Determination To Not Review an Initial Determination Granting a Joint Motion To Terminate the Investigation on the Basis of Settlement; Termination of Investigation

AGENCY: U.S. International Trade Commission.

ACTION: Notice.

SUMMARY: Notice is hereby given that the U.S. International Trade Commission has determined to not review the administrative law judge's (ALJ) initial determination (ID) (Order No. 8, the subject ID) granting a joint motion to terminate the above-referenced investigation on the basis of a settlement agreement.

FOR FURTHER INFORMATION CONTACT: Ron Traud, Office of the General Counsel, U.S. International Trade Commission, 500 E Street SW., Washington, DC 20436, (202) 205-3427. Copies of non-confidential documents filed in connection with this investigation are or will be available for inspection during official business hours (8:45 a.m. to 5:15 p.m.) in the Office of the Secretary, U.S. International Trade Commission, 500 E Street SW., Washington, DC 20436, (202) 205-2000. General information concerning the Commission may also be obtained at http://www.usitc.gov. The public record for this investigation may be viewed on the Commission's electronic docket (EDIS) at http://edis.usitc.gov. Hearing-impaired persons are advised that information on this matter can be obtained by contacting the Commission's TDD terminal at (202) 205-1810.

SUPPLEMENTARY INFORMATION: The Commission instituted this investigation on December 28, 2015, based on a complaint filed by Federal-Mogul Motorparts Corporation (Federal-Mogul) of Southfield, MI. 80 FR 80798 (Dec. 28, 2015). The complaint alleged a violation of Section 337 of the Tariff Act of 1930, as amended, 19 U.S.C. 1337, in the importation into the United States, the sale for importation, or the sale within the United States after importation of certain chassis parts incorporating movable sockets and components thereof by reason of infringement of one or more of claims 1-5 of U.S. Patent No. 6,202,280 patent. Id. The Commission's Notice of Investigation named Mevotech, L.P. of Toronto, Canada (Mevotech) as a respondent and the Office of Unfair Import Investigations (OUII) as a party. Id.

On March 24, 2016, Federal-Mogul and Mevotech filed a motion to terminate this Investigation on the basis of a settlement agreement. See Order No. 8, at 1 (hereinafter the Subject ID). The private parties provided a confidential, unredacted copy of their settlement agreement and a proposed redacted, public version. Subject ID at 1-2. On March 29, 2016, OUII filed a response in support of the motion. Id. at 1. In response to the ALJ's request, the private parties thereafter submitted a revised public version of their settlement agreement and arguments in support of their redactions. Id. On April 26, 2016, the ALJ issued Order No. 6, which concluded that the public version of the settlement agreement was over-redacted. Id. On May 3, 2016, Mevotech moved for reconsideration of Order No. 6. Id. On May 24, 2016, the ALJ issued Order No. 7, which granted the motion and concluded that the revised public version of the settlement agreement was properly redacted. Order No. 7, at 2; see Subject ID at 1.

Also on May 24, 2016, the ALJ issued the Subject ID, which granted the private parties' motion to terminate the investigation on the basis of their settlement. Subject ID at 3. The ALJ concluded that the private parties complied with Commission Rule 210.21(b)(1), which governs termination based on a settlement agreement, and that terminating the investigation on the basis of the settlement poses no threat to the public interest. Id. at 2-3. No parties petitioned for review of the Subject ID.

The Commission hereby determines to not review the Subject ID. This investigation is terminated.

The authority for the Commission's determination is contained in Section 337 of the Tariff Act of 1930, as amended (19 U.S.C. 1337), and in part 210 of the Commission's Rules of Practice and Procedure (19 CFR part 210).

By order of the Commission.
Issued: June 22, 2016.
Lisa R. Barton,
Secretary to the Commission.

[FR Doc. 2016-15126 Filed 6-24-16; 8:45 am]

BILLING CODE 7020-02-P